DEPARTMENT OF TRANSPORTATION

Federal Aviation Administration

Seventeenth Meeting: RTCA Special Committee 205/EUROCAE WG-71: Software Considerations in Aeronautical Systems

AGENCY: Federal Aviation Administration (FAA), DOT.

ACTION: Notice of RTCA Special Committee 205/EUROCAE WG-71 meeting: Software Considerations in Aeronautical Systems.

SUMMARY: The FAA is issuing this notice to advise the public of a meeting of RTCA Special Committee 205/EUROCAE WG-71: Software Considerations in Aeronautical Systems Agenda for the 17th meeting.

DATES: The meeting will be held August 29-September 1, 2011, from 8:30 a.m. to 5 p.m.

ADDRESSES: The meeting will be held at ENSEEIHT, 2, rue Charles Carmichel, Poite Postale 7122, 31071 TOULOUSE Cedex 7, France. Contact, Aerospace Valley and ENSEEIHT, Gerard Ladier, laudier@aerospace-valley.com, +33.6.88.51.71.37.

FOR FURTHER INFORMATION CONTACT: RTCA Secretariat, 1828 L Street, NW., Suite 805, Washington, DC, 20036, telephone (202) 833-9339, fax (202) 833-9434, Web site http://www.rtca.org.

SUPPLEMENTARY INFORMATION: Pursuant to section 10(a) (2) of the Federal Advisory Committee Act (Pub. L. 92-463, 5 U.S.C., and Appendix 2), notice is hereby given for a Special Committee 205/EUROCAE WG-71, Software Considerations in Aeronautical Systems Agenda for the 17th meeting:

Agenda

Day 1, Monday, August 29, 2011

• Open Plenary Session

• Chairmen's Introductory Remarks

• Facilities Review

• Recognition of the FAA and EASA Representatives

• Review of Meeting Agenda

• Review and Approval of Sixteenth Meeting Summary

• Road Map to Completion

• Referenced Documents

• ED-12B/DO-178B, Software Considerations in Airborne Systems and Equipment Certification

• ED-94B/DO-248B, Final Annual Report for Clarification of ED-94B/DO-178B, Software Considerations in Airborne Systems and Equipment Certification

• ED-109/DO-278 DO-xxx, Guidelines for CNS/ATM Systems Software Integrity Assurance

• Plenary Text Presentation

• IP50/IP51 (Core): Post FRAC Changes

• IP54/IP55 (CNS/ATM): Post FRAC Changes

• Final Approval of IP50/IP51 and IP54/IP55

• CAST Meeting

• Break Out Sessions

• IP58—Model Based Design

• IP60—Object Oriented

• IP52/IP53—FAQs et al

• Others as required

Day 2, August 30, 2011

• Break Out Sessions

• IP58—Model Based Design

• IP60—Object Oriented

• IP52/IP53—FAQs et al

• Others as required

• Plenary Text Presentation

• IP56(Tools): Post FRAC Changes

• IP62 (Formal Methods): Post FRAC Changes

• Plenary Text Approval (Final Approval)

• IP58/IP and IP62

• Plenary Text Presentation

• IP58—Model based Design

• IP60—Object Oriented

• IP52/IP53—FAQs et al

• Birds of a Feather Session

• Presentation and Moderated Session

Day 3, August 31, 2011

• Break Out Sessions (as required to work comments)

• IP58—Model based Design

• IP60—Object Oriented

• IP52/IP53—FAQs et al

• CAST Meeting

• Explanation of Voting Process

• Break Out Sessions

• IP58—Model based Design

• IP60—Object Oriented

• IP52/IP53—FAQs et al

• Mandatory Reading

• Plenary Text Approval (for FRAC)

• IP58—Model based Design

• IP60—Object Oriented

• IP52/IP53—FAQs et al

• Social Event

Day 4, September 1, 2011

• Plenary Text Approval

• Summary of Results from Voting Session

• Revised Road Map to Completion

• Another Other Business and next meeting information (the final meeting shall be hosted by ERAU in Dayton Beach, FL, the week of November 15-18, 2011)

• Closing Remarks

• Meeting Evaluation (Round Robin)

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 9, 2011.
Robert L. Bostiga,
RTCA Advisory Committee.

[FR Doc. 2011-20748 Filed 8-15-11; 8:45 am]

BILLING CODE 4910-13-P